FEDERAL COMMUNICATIONS COMMISSION

Notice of Public Information Collection(s) Being Reviewed by the Federal Communications Commission, Comments Requested

December 21, 2004.

SUMMARY: The Federal Communications Commission, as part of its continuing effort to reduce paperwork burden, invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before February 28, 2005. If you anticipate that you will be submitting comments, but find it difficult to do so within the period of time allowed by this notice, you should advise the contact listed below as soon as possible.

ADDRESSES: Direct all Paperwork Reduction Act (PRA) comments to Cathy Williams, Federal Communications Commission, Room 1-C823, 445 12th Street, SW, Washington, DC 20554 or via the Internet to Cathy.Williams@fcc.gov.

FOR FURTHER INFORMATION CONTACT: For additional information or copies of the information collection(s), contact Cathy Williams at (202) 418-2918 or via the Internet at Cathy.Williams@fcc.gov.

SUPPLEMENTARY INFORMATION: OMB Control Number: 3060-0027.

Title: Application for Construction Permit for Commercial Broadcast Station, FCC Form 301.

Form Number: FCC Form 301.

Type of Review: Extension of a currently approved collection.

Respondents: Business or other for-profit entities; Not-for-profit institutions.

Number of Respondents: 3,247.

Estimated Time per Response: 2 to 4 hours.

Frequency of Response: On occasion reporting requirement; Third party disclosure requirement.

Total Annual Burden: 8,380 hours.

Total Annual Cost: $44,630,924.

Privacy Impact Assessment: No impact(s).

Needs and Uses: FCC Form 301 is used to apply for authority to construct a new commercial AM, FM, or TV broadcast station, or to make changes in existing facilities of such a station. This collection also includes the third party disclosure requirement of 47 CFR 73.3580, requiring local public notice in a newspaper of general circulation of the filing of all construction permit applications. FM licensees or permittees may request, by application on FCC Form 301, upgrades on adjacent and co-channels, modifications to adjacent channels of the same class and downgrades to adjacent channels without first submitting a petition for rulemaking. All applicants using this one-step process must demonstrate that a suitable site exists which would comply with allotment standards with respect to minimum distance separation and city-grade coverage and which would be suitable for tower construction. To receive authorization for commencement of Digital Television (“DTV”) operation, commercial broadcast licensees must file FCC Form 301 for a construction permit. This application may be filed anytime after receiving the initial DTV allotment but must be filed before mid-point in a particular applicant's required construction period. The Commission will consider these applications as minor changes in facilities. Applicants will not have to supply full legal or financial qualification information.

On June 24, 2004, the U.S. Court of Appeals for the Third Circuit (the “Court”) issued an Opinion and Judgment (“Remand Order”) in which it upheld certain aspects of the Commission's new media ownership rules adopted on June 2, 2003 (See 18 FCC Rcd 13620 (2003)), specifically those dealing with local radio ownership, while requiring further explanation for all other aspects of the new rules. In particular, the Court held that the use of Arbitron Metro markets, the inclusion of noncommercial stations in determining radio market size, the attribution of joint sale agreements, and certain transfer restrictions are consistent with the Administrative Procedure Act. The Court stated that its prior stay of all new ownership rules would remain in effect pending the outcome of the remand proceeding. The Commission filed a petition for rehearing requesting that the Court lift the stay partially—i.e., with respect to the radio ownership rules which the Court's Remand Order upheld. On September 3, 2004, the Court granted the Commission's petition, thus partially lifting the stay (“Rehearing Order”). As a result of the Rehearing Order, the new radio ownership rules took effect September 3, 2004.

Under the new radio ownership rules, radio Joint Sales Agreements (JSAs) are attributable and radio applicants are required to submit as a part of the FCC Form 301 a copy of any attributable JSA or time brokerage agreement.

OMB Control Number: 3060-0031.

Title: Application for Consent to Assignment of Broadcast Station Construction Permit or License, FCC Form 314.

Form Number: FCC Form 314.

Type of Review: Extension of a currently approved collection.

Respondents: Business or other for-profit entities; Not-for-profit institutions.

Number of Respondents: 2,225.

Estimated Time per Response: 1 to 2 hours.

Frequency of Response: On occasion reporting requirement; Third party disclosure requirement.

Total Annual Burden: 3,990 hours.

Total Annual Cost: $16,017,631.25.

Privacy Impact Assessment: No impact(s).

Needs and Uses: FCC Form 314 and applicable exhibits/explanations are required to be filed when applying for consent to assignment of an AM, FM or TV broadcast station construction permit or license. In addition, the applicant must notify the Commission when an approved assignment of a broadcast station construction permit or license has been consummated.

This collection also includes the third party disclosure requirement of 47 CFR 73.3580, requiring local public notice in a newspaper of general circulation of the filing of all applications for assignment of license/permit. Additionally, an applicant for assignment of license must broadcast the same notice over the station at least once daily on four days in the second week immediately following the tendering for filing of the application.

On June 24, 2004, the U. S. Court of Appeals for the Third Circuit (the “Court”) issued an Opinion and Judgment (“Remand Order”) in which it upheld certain aspects of the Commission's new media ownership rules adopted on June 2, 2003 (See 18 FCC Rcd 13620 (2003)), specifically those dealing with local radio ownership, while requiring further explanation for all other aspects of the new rules. In particular, the Court held that the use of Arbitron Metro markets, the inclusion of noncommercial stations in determining radio market size, the attribution of joint sale agreements, and certain transfer restrictions are consistent with the Administrative Procedure Act. The Court stated that its prior stay of all new ownership rules would remain in effect pending the outcome of the remand proceeding. The Commission filed a petition for rehearing requesting that the Court lift the stay partially—i.e., with respect to the radio ownership rules which the Court's Remand Order upheld. On September 3, 2004, the Court granted the Commission's petition, thus partially lifting the stay (“Rehearing Order”). As a result of the Rehearing Order, the new radio ownership rules took effect September 3, 2004.

Under the new radio ownership rules, radio Joint Sales Agreements (JSAs) are attributable and radio applicants are required to submit as a part of the FCC Form 301 a copy of any attributable JSA or time brokerage agreement.

OMB Control Number: 3060-0032.

Title: Application for Consent to Transfer Control of Entity Holding Broadcast Station Construction Permit or License, FCC Form 315.

Form Number: FCC Form 315.

Type of Review: Extension of a currently approved collection.

Respondents: Business or other for-profit entities; Not-for-profit institutions.

Number of Respondents: 2,225.

Estimated Time per Response: 1 to 2 hours.

Frequency of Response: On occasion reporting requirement; Third party disclosure requirement.

Total Annual Burden: 3,990 hours.

Total Annual Cost: $16,017,631.25.

Privacy Impact Assessment: No impact(s).

Needs and Uses: FCC Form 315 and applicable exhibits/explanations are required to be filed when applying for transfer of control of a corporation holding an AM, FM or TV broadcast station construction permit or license. In addition, the applicant must notify the Commission when an approved transfer of control of a broadcast station construction permit or license has been consummated.

This collection also includes the third party disclosure requirement of 47 CFR 73.3580, requiring local public notice in a newspaper of general circulation of the filing of all applications for transfer of control. Additionally, an applicant for transfer of control must broadcast the same notice over the station at least once daily on four days in the second week immediately following the tendering for filing of the application.

On June 24, 2004, the U. S. Court of Appeals for the Third Circuit (the “Court”) issued an Opinion and Judgment (“Remand Order”) in which it upheld certain aspects of the Commission's new media ownership rules adopted on June 2, 2003 (See 18 FCC Rcd 13620 (2003)), specifically those dealing with local radio ownership, while requiring further explanation for all other aspects of the new rules. In particular, the Court held that the use of Arbitron Metro markets, the inclusion of noncommercial stations in determining radio market size, the attribution of joint sale agreements, and certain transfer restrictions are consistent with the Administrative Procedure Act. The Court stated that its prior stay of all new ownership rules would remain in effect pending the outcome of the remand proceeding. The Commission filed a petition for rehearing requesting that the Court lift the stay partially—i.e., with respect to the radio ownership rules which the Court's Remand Order upheld. On September 3, 2004, the Court granted the Commission's petition, thus partially lifting the stay (“Rehearing Order”). As a result of the Rehearing Order, the new radio ownership rules took effect September 3, 2004.

Under the new radio ownership rules, radio Joint Sales Agreements (JSAs) are attributable and radio applicants are required to submit as a part of the FCC Form 301 a copy of any attributable JSA or time brokerage agreement.

Federal Communications Commission.
Marlene H. Dortch,
Secretary.

[FR Doc. 04-28530 Filed 12-28-04; 8:45 am]

BILLING CODE 6712-10-P